ENVIRONMENTAL PROTECTION AGENCY

[ER-FRL-6648-2]

Environmental Impact Statements and Regulations; Availability of EPA Comments

Availability of EPA comments prepared pursuant to the Environmental Review Process (Erp), under section 309 of the Clean Air Act and section 102(2)(c) of the National Environmental Policy Act as amended. Requests for copies of EPA comments can be directed to the Office of Federal Activities at (202) 564-7167. An explanation of the ratings assigned to draft environmental impact statements (EISs) was published in FR dated April 4, 2003 (68 FR 16511).

Draft EISs

ERP No. D-BIA-L02031-OR Rating EC2, Wanapa Energy Center, Construction and Operation a New 1,200 Megawatt (MW) Natural Gas-Fired Electric Power Generating Facility, Confederated Tribes of the Umatilla Indian Reservation (CTUIR), in the City of Hermiston and the Port of Umatilla, OR.

Summary: EPA identified environmental concerns with the potential air quality impacts and cumulative effects. EPA recommended that additional information be included in the EIS related to potential air quality impacts, cumulative effects, impact characterizations, mitigation measures, Endangered Species Act implications of the project, range of alternatives evaluated in the EIS and coordination with other decision making processes.

ERP No. D-FHW-G40178-TX Rating EC2, Grand Parkway/TX-99 Segment F-1 Highway Construction, U.S. 290 to TX-249, Funding and US Army COE Section 404 Permit Issuance, Harris, Montgomery, Fort Bend, Liberty, Brazoria, Galveston and Chambers Counties, TX.

Summary: EPA expressed concerns regarding wetland delineation and mitigation. EPA requested that the final EIS include additional information on these issues.

ERP No. D-USN-L11036-WA Rating LO, Fox Island Laboratory Stabilization of In-Water Facilities, Naval Surface Warfare Center, Carderock Division, Pierce County, WA.

Summary: EPA has no objection to the proposed action.

Final EISs

ERP No. F-IBW-G36155-TX, Lower Rio Grande Flood Control Project, Alternative Vegetation Maintenance Practices Impacts, Implementation, Portions of the Rio Grande, Cameron, Hidalgo and Willacy Counties, TX.

Summary: No formal comment letter was sent to the preparing agency.

Dated: February 3, 2004.
Kenneth Mittleholtz,
Environmental Protection Specialist, Office of Federal Activities.

[FR Doc. 04-2629 Filed 2-5-04; 8:45 am]

BILLING CODE 6560-50-P